ENVIRONMENTAL PROTECTION AGENCY

[AK-04-001; FRL-7637-6]

Adequacy Status of the Anchorage, Alaska Carbon Monoxide Maintenance Plan for Transportation Conformity Purposes

AGENCY: Environmental Protection Agency (EPA).

ACTION: Notice of adequacy determination.

SUMMARY: In this action, EPA is notifying the public that we have found that the motor vehicle emissions budgets in the Anchorage, Alaska Serious Carbon Monoxide (CO) Maintenance Plan, submitted by the Governor on February 18, 2004, are adequate for conformity purposes. On March 2, 1999, the D.C. Circuit Court ruled that submitted State Implementation Plans (SIPs) cannot be used for conformity determinations until EPA has affirmatively found them adequate. As a result of our finding, the Municipality of Anchorage, Alaska Department of Transportation & Public Facilities, and the U.S. Department of Transportation are required to use the motor vehicle emissions budgets in this submitted maintenance plan for future transportation conformity determinations.

DATES: This finding is effective April 1, 2004.

FOR FURTHER INFORMATION CONTACT: The finding will be available at EPA's conformity Web site: http://www.epa.gov/otaq/transp/conform/adequacy.htm. You may also contact Wayne Elson, U.S. EPA, Region 10 (OAQ-107), 1200 Sixth Ave, Seattle WA 98101; (206) 553-1463 or elson.wayne@epa.gov.

SUPPLEMENTARY INFORMATION: Today's notice is simply an announcement of a finding that we have already made. EPA Region 10 sent a letter to The Alaska Department of Environmental Conservation on March 5, 2004, stating that the motor vehicle emissions budgets in the Maintenance Plan for the Serious Carbon Monoxide (CO) Maintenance Area for Anchorage are adequate.

Transportation conformity is required by section 176(c) of the Clean Air Act. EPA's conformity rule requires transportation plans, programs, and projects to conform to SIPs and establishes the criteria and procedures for determining whether or not they do. Conformity to a SIP means that transportation activities will not produce new air quality violations, worsen existing violations, or delay timely attainment of the national ambient air quality standards.

The criteria by which we determine whether a SIP's motor vehicle emission budget is adequate for conformity purposes are outlined in 40 CFR 93.118(e)(4). Please note that an adequacy review is separate from EPA's completeness review.

We have described our process for determining the adequacy of submitted SIP budgets in guidance (May 14, 1999 memo titled “Conformity Guidance on Implementation of March 2, 1999 Conformity Court Decision”). We followed this guidance in making our adequacy determination.

Authority: 42 U.S.C. 7401-7671q.

Dated: March 8, 2004.
L. John Iani,
Regional Administrator, Region 10.

[FR Doc. 04-6000 Filed 3-16-04; 8:45 am]

BILLING CODE 6560-50-P